DEPARTMENT OF ENERGY

Federal Energy Regulatory Commission

[Docket No. CP12-474-000]

Natural Gas Pipeline Company of America LLC; Notice of Request Under Blanket Authorization

Take notice that on June 7, 2012, Natural Gas Pipeline Company of America LLC (Natural), 3250 Lacey Road, Suite 700, Downers Grove, Illinois 60515, filed in Docket No. CP12-474-000, an application pursuant to sections 157.205 and 157.216 of the Commission's regulations under the Natural Gas Act (NGA) as amended, to abandon in place two 1,040-horsepower (HP) compressor units at Natural's Compressor Station No. 155 near Chico, Wise County, Texas, under Natural's blanket certificate issued in Docket No. CP82-402-000,¹ all as more fully set forth in the application which is on file with the Commission and open to the public for inspection.

¹ 20 FERC ¶ 62,415 (1982).

Natural proposes to abandon two 1,040 HP compressor units (Units No. 1 and 2) in place at its Compressor Station No. 155.² Natural states that it has not operated compressor Units No. 1 and 2 since 2008 and has held them in reserve since 1986. Natural also states that compressor Units No. 1 and 2 are no longer needed for backup use, are very difficult to start, require continual repair and replacement of deteriorated parts, and are costly to test to assure continue compliance with emissions standards. Natural further states that its proposed abandonment of compressor Units No. 1 and 2 would have no effect on Natural's system capacity or on any of Natural's existing customers. Finally, Natural states that it would cost approximately $10,800,000 to replace the two compressor units with new ones.

² 34 FPC 615 (1965).

Any questions concerning this application may be directed to Bruce H. Newsome, Vice President, Regulatory Products and Services, Natural Gas Pipeline Company of America LLC, 3250 Lacey Road, 7th Floor, Downers Grove, Illinois 60515-7918, or via telephone at (630) 725-3070, or by email bruce_newsome@kindermorgan.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: June 15, 2012.
Kimberly D. Bose,
Secretary.

[FR Doc. 2012-15257 Filed 6-21-12; 8:45 am]

BILLING CODE 6717-01-P